DEPARTMENT OF HEALTH AND HUMAN SERVICES

Meeting of the National Preparedness and Response Science Board

AGENCY: Department of Health and Human Services, Office of the Secretary.

ACTION: Notice.

SUMMARY: As stipulated by the Federal Advisory Committee Act, the Department of Health and Human Services (HHS) is hereby giving notice that the National Preparedness and Response Science Board (NPRSB), also known as the National Biodefense Science Board will be holding a public meeting on January 30, 2015.

DATES: The January 30, 2015, NPRSB public meeting is scheduled from 9:00 a.m. to 11:00 a.m. EST. The agenda is subject to change as priorities dictate. Please check the NPRSB Web site, located at WWW.PHE.GOV/NPRSB, for the most up-to-date information on the meeting.

ADDRESSES: Thomas P. O'Neil Federal Office Building, 200 C Street SW., Washington, DC 20024. To attend via teleconference, call toll-free 888-946-7304, international dial-in 1-212-547-0362, pass-code 7491964. Please call 15 minutes prior to the beginning of the conference call to facilitate attendance. Pre-registration is required for public attendance. Individuals who wish to attend the meeting in person should submit an inquiry via the NPRSB Contact Form located at www.phe.gov/NPRSBComments.

FOR FURTHER INFORMATION CONTACT: Please submit an inquiry via the NPRSB Contact Form located at www.phe.gov/NPRSBComments.

SUPPLEMENTARY INFORMATION: Pursuant to section 319M of the Public Health Service Act (42 U.S.C. 247d-7f) and section 222 of the Public Health Service Act (42 U.S.C. 217a), HHS established the NPRSB. The Board shall provide expert advice and guidance to the Secretary on scientific, technical, and other matters of special interest to HHS regarding current and future chemical, biological, nuclear, and radiological agents, whether naturally occurring, accidental, or deliberate. The Board may also provide advice and guidance to the Secretary and/or the Assistant Secretary for Preparedness and Response on other matters related to public health emergency preparedness and response.

Background: This public meeting will be dedicated to swearing in the six new voting members who will replace the members whose 3-year terms will expire on December 31, 2014, and the re-appointment of two current members. Subsequent agenda topics will be added as priorities dictate.

Availability of Materials: The meeting agenda and materials will be posted on the NPRSB Web site at www.phe.gov/nprsb prior to the meeting.

Procedures for Providing Public Input: All written comments must be received prior to January 30, 2015. Please submit comments via the NPRSB Contact Form located at www.phe.gov/NPRSBComments. Individuals who plan to attend in-person and need special assistance, such as sign language interpretation or other reasonable accommodations, should submit a request via the NPRSB Contact Form located at www.phe.gov/NPRSBcomments.

Dated: December 1, 2014.
Nicole Lurie,
Assistant Secretary for Preparedness and Response.

[FR Doc. 2014-28722 Filed 12-5-14; 8:45 am]

BILLING CODE P